ENVIRONMENTAL PROTECTION AGENCY

[EPA-R07-SFUND-2020-0540 FRL-10016-20-Region 8]

CERCLA Prospective Purchaser Administrative Settlement Agreement and Covenant Not To Sue, Lockwood Solvent Ground Water Plume Superfund Site, Billings, Montana

AGENCY: Environmental Protection Agency (EPA).

ACTION: Notice; request for public comment.

SUMMARY: In accordance with the requirements of the Comprehensive Environmental Response, Compensation, and Liability Act of 1980, as amended (“CERLCA”) notice is hereby given by the U.S. Environmental Protection Agency (EPA), Region 8, of a proposed prospective purchaser administrative settlement agreement, embodied in an Administrative Settlement Agreement and Covenant Not to Sue (“Settlement Agreement”) with the State of Montana (the “State”), MAC LTT, LLC (“MAC”), which is purchasing the Property, and MAC LTT Manufacturing, Inc., a related entity to MAC, which, although not purchasing the Property, has leased the Property since 2013 and will continue to lease and operate the Property after MAC purchases the Property (“Lessee,” and with MAC collectively, “Purchaser”). This Settlement Agreement pertains to a portion of the approximately 580-acre area known as the Lockwood Solvent Ground Water Plume Superfund Site (“Site”) located at 1430 U.S. Highway 87 East, Billings, Montana (“The Property”).

DATES: Comments must be submitted on or before December 2, 2020.

ADDRESSES: The proposed Settlement Agreement and additional background information relating to the agreement will be available for public inspection at the EPA Superfund Record Center, 1595 Wynkoop Street, Denver, Colorado, by appointment. Comments and requests for a copy of the proposed agreement should be addressed to Julie Nicholson, Enforcement Specialist, Superfund and Emergency Management Division, Environmental Protection Agency-Region 8, Mail Code 8SEM-PAC, 1595 Wynkoop Street, Denver, Colorado 80202, (303) 312-6343 and should reference the Lockwood Solvent Ground Water Plume Site.

You may also send comments, identified by Docket ID No. EPA-R07-SFUND-2020-0540 to http://www.regulations.gov. Follow the online instructions for submitting comments.

FOR FURTHER INFORMATION CONTACT: Mark Chalfant, Senior Assistant Regional Counsel, Office of Regional Counsel, Environmental Protection Agency, Region 8, Mail Code 8ORC-LEC, 1595 Wynkoop, Denver, Colorado 80202, (303) 312-6177, chalfant.mark@epa.gov.

SUPPLEMENTARY INFORMATION: Written Comments: Submit your comments, identified by Docket ID No. EPA-R07-SFUND-2020-0540 at http://www.regulations.gov. Once submitted, comments cannot be edited or removed from Regulations.gov. The EPA may publish any comment received to its public docket. Do not submit electronically any information you consider to be Confidential Business Information (CBI) or other information whose disclosure is restricted by statute. If CBI exists, please contact Mr. Bruce Morrison. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Notice is hereby given by the U.S. Environmental Protection Agency, Region 8, of a proposed prospective purchaser settlement agreement, embodied in an Administrative Settlement Agreement and Covenant Not to Sue, with the State of Montana, MAC LTT, LLC, which is purchasing the Property, and MAC LTT Manufacturing, Inc., a related entity to MAC, which, although not purchasing the Property, has leased the Property since 2013 and will continue to lease and operate the Property after MAC purchases the Property. This Settlement Agreement pertains to a portion of the approximately 580-acre area known as the Lockwood Solvent Ground Water Plume Superfund Site located at 1430 U.S. Highway 87 East, Billings, Montana. Neither of the MAC-related business entities is responsible for the original contamination at the Site. Under the proposed Settlement Agreement, both MAC LTT, LLC and MAC LTT Manufacturing, Inc. would be required to comply with standard CERCLA bona fide prospective purchaser continuing obligations, including access, appropriate care, and non-interference with the CERCLA remedy. The proposed Settlement Agreement provides for the payment of certain response costs incurred by the EPA and the State of Montana at or in connection with the Site. The proposed Settlement Agreement includes a covenant by the United States and the State of Montana not to sue or take administrative action against MAC LTT, LLC and MAC LTT Manufacturing, Inc., pursuant to sections 106 and 107(a) of CERCLA for Existing Contamination, as that term is defined in the proposed Settlement Agreement, and for payment of response costs. For thirty (30) days following the date of publication of this document, the EPA will receive written comments relating to the settlement. The EPA will consider all comments received and may modify or withdraws its consent to the Settlement Agreement if comments received disclose facts or considerations that indicate that the proposed settlement is inappropriate, improper, or inadequate. The EPA's response to any comments received will be available for public inspection at EPA Region 8, 1595 Wynkoop Street, Denver, Colorado 80202.

Betsy Smidinger,
Division Director, Superfund and Emergency Management Division, Region 8.

[FR Doc. 2020-24163 Filed 10-30-20; 8:45 am]

BILLING CODE 6560-50-P